FEDERAL EMERGENCY MANAGEMENT AGENCY

Agency Information Collection Activities: Submission for OMB review; Comment Request

ACTION: Notice and request for comments.

SUMMARY: The Federal Emergency Management Agency has submitted the following proposed information collection to the Office of Management and Budget for review and clearance in accordance with the requirements of the Paperwork Reduction Act of 1995 (44 U.S.C. 3507).

Title: EMI Independent Study Course Enrollment Application.

Type of Information Collection: Revision of a currently approved collection.

OMB Number: 3067-0277.

Abstract: FEMA Form 95-23 is used to provide independent study course materials to students that enroll in the Independent Study Program. These courses are offered in residence at the Emergency Management Institute (EMI), through State Emergency Management Agencies. The Independent Study Program provides valuable training to emergency management personnel and to the general citizenry of the United States, without having to attend a resident course at EMI, or at a state-sponsored course.

Affected Public: Individuals or households.

Number of Respondents: 90,000.

Estimated Time per Respondent: 1 minute.

Estimated Total Annual Burden Hours: 1500.

Frequency of Response: On Occasion.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW, Room 316, Washington, DC 20472, telephone number (202) 646-2625, FAX number (202) 646-3524, or e-mail address: muriel.anderson@fema.gov.

Mike Bozzelli,
Acting Director, Program Services Division, Operations Support Directorate.

[FR Doc. 00-28260 Filed 11-2-00; 8:45 am]

BILLING CODE 6718-01-P